DEPARTMENT OF DEFENSE

Department of the Air Force

Global Positioning System Directorate (GPSD) Meeting Notice

AGENCY: Global Positioning System Directorate (GPSD)

ACTION: Notice of meeting—2015 Public Interface Control Working Group and Open Forum for the NAVSTAR GPS public documents

SUMMARY: This notice informs the public that the Global Positioning Systems (GPS) Directorate will host the 2015 Public Interface Control Working Group and Open Forum on 9 and 10 December 2015 for the following NAVSTAR GPS public documents: IS-GPS-200 (Navigation User Interfaces), IS-GPS-705 (User Segment L5 Interfaces), and IS-GPS-800 (User Segment L1C Interface). Additional logistical details can be found below.

The purpose of this meeting is to update the public on GPS public document revisions and collect issues/comments for analysis and possible integration into future GPS public document revisions. All outstanding comments on the GPS public documents will be considered along with the comments received at this year's open forum in the next revision cycle. The 2015 Interface Control Working Group and Open Forum are open to the general public. For those who would like to attend and participate, we request that you register no later than November 23, 2015. Please send the registration information to robyn.anderson.1@us.af.mil or SMCGPER@us.af.mil, providing your name, organization, telephone number, mailing and email addresses, and country of citizenship.

Comments will be collected, catalogued, and discussed as potential inclusions to the version following the current release. If accepted, these changes will be processed through the formal directorate change process for IS-GPS-200, IS-GPS-705, and IS-GPS-800. All comments must be submitted in a Comments Resolution Matrix (CRM). These forms along with current versions of the documents and the official meeting notice are posted at: http://www.gps.gov/technical/icwg/.

Please submit comments to the SMC/GPS Requirements (SMC/GPER) mailbox at SMCGPER@us.af.mil or to Bruce Charest at bruce.charest@us.af.mil by November 23, 2015. Special topics may also be considered for the Public Open Forum. If you wish to present a special topic, please coordinate with SMC/GPER or Capt Robyn Anderson no later than November 23, 2015. For more information, please contact Capt Robyn Anderson at 310-653-3064 or Daniel Godwin at 310-653-3640.

Table of Contents

• DATES:

• ADDRESSES:

• FOR FURTHER INFORMATION CONTACT:

DATES:

Date/Time: 9-10 Dec. 2015, 0830-1600 * (Pacific Standard Time P.S.T.).

Registration/check-in on 9 Dec. 2015 will begin at 0800 hours.

ADDRESSES:

Salient Facility: * 121 North Douglas Street, El Segundo, CA 90245, Rooms 3 & 4.

Dial-In Information and Location: Phone Number: 1-310-653-0103. Code: 1040#.

* Identification will be required at the entrance of the Salient facility (e.g., Passport, state ID or Federal ID).

Salient Facility Phone Number: 1-424-666-3395.

FOR FURTHER INFORMATION CONTACT: Captain Robyn Anderson, robyn.anderson.1@us.af.mil, (310) 653-3064. Daniel Godwin, daniel.godwin.5@us.af.mil, (310) 653-3640.

Henry Williams,
Acting Air Force Federal Liaison Officer, DAF.

[FR Doc. 2015-25917 Filed 10-9-15; 8:45 am]

BILLING CODE 5001-10-P